DEPARTMENT OF COMMERCE

International Trade Administration

National Renewable Energy Laboratory, et al.

Notice of Decision on Application for Duty-Free Entry of an Electron Microscope

This is a decision consolidated pursuant to Section 6(c) of the Educational, Scientific, and Cultural Materials Importation Act of 1966 (Pub. L. 89-651, as amended by Pub. L. 106-36; 80 Stat. 897; 15 CFR part 301). Related records can be viewed between 8:30 A.M. and 5:00 P.M. in Room 3705, U.S. Department of Commerce, 14th and Constitution Avenue., NW, Washington, D.C.

Docket Number: 09-047. Applicant: Washington State University, Pullman, WA 99164. Instrument: Electron Microscope. Manufacturer: FEI Company, Czech Republic. Intended Use: See notice at 74 FR 44350, August 28, 2009.

Comments: None received. Decision: Approved. No instrument of equivalent scientific value to the foreign instrument, for such purposes as this instrument is intended to be used, was being manufactured in the United States at the time the instrument was ordered. Reasons: The foreign instrument is an electron microscope and is intended for research or scientific educational uses requiring an electron microscope. We know of no electron microscope or any other instrument suited to these purposes, which was being manufactured in the United States at the time of order of this instrument.

Dated: September 22, 2009.
Christopher D. Cassel,
Director.
Subsidies Enforcement Office.
Import Administration.

[FR Doc. E9-23384 Filed 9-25-09; 8:45 am]

BILLING CODE 3510-DS-S